DEPARTMENT OF COMMERCE

Bureau of Industry and Security

15 CFR Part 774

The Commerce Control List

CFR Correction

In Title 15 of the Code of Federal Regulations, parts 300 to 799, revised as of January 1, 2015, on page 941, in supplement no. 1 to part 774, in ECCN 6C992, under the List of Items Controlled, correct the Items paragraph to read as follows: “Items: The list of items controlled is contained in the ECCN heading.”

[FR Doc. 2015-08985 Filed 4-16-15; 8:45 am]

BILLING CODE 1505-01-D